DEPARTMENT OF TRANSPORTATION

Federal Aviation Administration

Fuel Flowmeters Technical Standard Order TSO-C44d Revision

AGENCY: Federal Aviation Administration, DOT.

ACTION: Notice of availability and request for public comment.

SUMMARY: The TSO tells manufacturers seeking TSO authorization or letter of design approval (LODA) what minimum performance standards (MPS) their Fuel Flowmeter must first meet for approval and identification with the applicable TSO markings. This notice announces the cancellation of TSO-C44c, and request public comments on the proposed revision (TSO-C44d) to the cancelled TSO-C44c.

DATES: Comments must be received on or before January 3, 2008.

ADDRESSES: Send all comments on the proposed revision TSO-44d to: Federal Aviation Administration, Aircraft Certification Service, Aircraft Engineering Division, Room 815, 800 Independence Avenue, SW., Washington, DC 20591. ATTN: Jim Kabbara, AIR-120. You may deliver comments to: Federal Aviation Administration, Room 815, 800 Independence Avenue, SW., Washington, DC, 20591, or electronically submit comments to the following Internet address: 9-AWA-AVR-AIR-TSO44d-Comments@faa.gov. Include in the subject line of your electronic message the following: Comments FAA TSO-44d, Fuel Flowmeter Technical Standard Order.

FOR FURTHER INFORMATION CONTACT: Jim Kabbara, Aerospace Engineer, Federal Aviation Administration, Aircraft Certification Service, Aircraft Engineering Division, Technical Programs and Continued Airworthiness Branch, AIR-120, Room 815, 800 Independence Avenue, SW., Washington, DC 20591. Telephone (202) 267-8001, FAX (202) 267-5340, or e-mail at: jim.kabbara@faa.gov.

SUPPLEMENTARY INFORMATION:

Comments Invited

You are invited to comment on the draft order listed in this notice by sending such written data, views, or arguments to the above listed address. Please identify “FAA TSO-44d, Fuel Flowmeter Technical Standard Order” as the subject of your comments. You may also examine comments received on the proposed TSO-C44d before and after the comment closing date at the FAA Headquarters Building, Room 815, 800 Independence Avenue, SW., Washington, DC 20591, weekdays except Federal holidays, between 8:30 a.m. and 4:30 p.m. The Director of the Aircraft Certification Service will consider all communications received on or before the closing date before implementing the revision.

Background

The failure condition specified in TSO-C44c, Paragraph 3.b., was incorrectly identified as “hazardous.” The proposed revision offered by this Federal Register Notice revises Paragraph 3.b. to state the following: “Develop each fuel Flowmeter to at least the design assurance level equal to the failure condition classification of the system on which the Flowmeter is to be installed.” The proposed draft changes no other MPS requirement of TSO-C44.

How To Obtain Copies

You may get an electronic copy via the Internet at http://www.faa.gov/certification/aircraft/DraftDoc/Comments.htm or request a hard copy by contacting the person named in the paragraph FOR FURTHER INFORMATION CONTACT.

Issued in Washington, DC, on November 27, 2007.
Carol Martineau,
Acting Assistant Manager, Aircraft Engineering Division, Aircraft Certification Service.

[FR Doc. 07-5915 Filed 12-3-07; 8:45 am]

BILLING CODE 4910-13-M